DEPARTMENT OF ENERGY

Federal Energy Regulatory Commission

[Docket No. RM07-16-000]

Filing Via the Internet; Notice of Release of efiling v7.0

February 28, 2008.

Pursuant to the provisions of Commission Order No. 703, issued November 15, 2007,¹ the Commission will update its electronic filing system to v7.0 (the next version of the Commission's system for filing documents via the Internet) over the weekend of March 1, 2008. This version includes, but is not limited to the following enhancements:

¹ Filing Via the Internet, Order No. 703, 72 FR 65,659 (November 23, 2007), FERC Stats. & Regs. ¶ 61,171 ¶ 31,259 (2007) (Order No. 703).

1. Expands the documents eligible for efiling to include most application-type filings that receive a new docket number (with the exception of filings containing tariff sheets) and those forms and reports that are filed without a docket number.

2. Permits documents containing Privileged and/or Critical Energy Infrastructure Information (CEII) material to be submitted electronically in their entirety.²

² Information subject to a Protective Order issued by an Administrative Law Judge or for which a Protective Order is requested is not eligible for efiling.

3. Allows documents in Hydropower proceedings that are normally submitted directly to a FERC Regional Office to be electronically filed.

4. Permits up to 200 files to be uploaded in each of the Public, Privileged, and CEII security classes.

5. Increases the maximum file size to 50 Mb.³

³ The 50 Mb limit is intended for single maps and drawings that cannot easily be split into smaller files. The practical limit for most files remains 10-20 Mb in order to make files more accessible.

6. Expands the file name, including the dot/extension, to 60 characters, and allows certain special characters to be included.

7. Adds an optional document-less alternative for filing Motions to Intervene and Motions to Intervene Out-of-Time.

8. Provides a Quick Comment option for comments on Hydropower Licensing and Natural Gas Pipeline projects.

In accordance with Order No. 703, the deadline for filing in order to receive the same day's filed date remains 5 p.m. Eastern Time.

Concurrent with the new release, the Commission Staff will update information on its Web site that pertains to electronic filing. The primary change will be an expanded Filing Guide/Qualified Documents List that identifies filings types by regulation and indicates whether the associated documents may be submitted electronically or not.⁴ The Guide also indicates the appropriate menu choice for the various filings and the number and routing of any “courtesy” paper copies for staff, where such paper copies are required.

⁴ The Filing Guide/Qualified Documents List also includes those forms submitted through the eForms or Electric Quarterly Reports (EQR) systems.

In addition to the above enhancements, users should note the following guidelines and staff preferences for using the new system.

Staff/Courtesy Copies of Certain eFiled Documents

For certain documents submitted via efiling, the filer will be obligated to provide one or more paper copies for staff use by the next business day after efiling. The document types that require paper copies are identified in the Filing Guide/Qualified Documents List; the Guide also indicates the destination/routing for those copies. In certain cases, the copies may have to be provided to the jurisdictional Regional Office.

Staff will post routing and forms of address for the various locations for staff copies. In order to ensure that staff copies of efiled documents are not treated as new paper submissions, each copy of the document should have a cover letter indicating the destination address with a paper copy of the Confirmation of Receipt e-mail from the efiling session attached.

File Formats

The acceptable file formats for electronic submission are listed in Attachment A. They are the same as those permitted for filing on CD/DVD posted at: http://www.ferc.gov/help/submission-guide/electronic-media/acceptable.asp. Users may upload zipped files to simplify the browse, select and attach process for submissions with a large number of files. The system will explode the zipped file to display the individual files in the file upload list. Embedded .zip files within a .zip file are not permitted.

Text-Searchable vs. Image Formats

In accordance with Order No. 703, PDF files must be submitted in a manner that retains the ability to search the document (“print to PDF”) except in cases where it is impractical for the filer to do otherwise. The Commission's electronic filing system is not only for the benefit of filers, it is also intended to make the information submitted more usable for staff analysis. Image formats inhibit the latter objective and must be reserved for documents not readily available in a text-searchable format.

File Names and Security

Since the new system accepts Public, Privileged, and CEII material, file organization and the upload process will be critical to ensuring that non-public information remains secure. Files should be organized by security class in advance of filing, either by saving them in security-specific directories or folders, or by beginning each file name with “PUBLIC,” “PRIVIL,” or “CEII.” There is a separate security tab on the file upload screen for each security class.

Service Lists

In addition to updating service lists for Motions to Intervene, the new system will automatically add the Applicant Name(s) and all eRegistered contacts for the Applicant(s) to the service list for newly created dockets. For any filing that receives a new Docket or Project Number, the submitter must add the eregistered e-mail addresses for all persons that should appear on the service list. Only those contacts entered online by the filer will be added to the service list for a particular filing. The system will also automatically update service lists for the party and contacts in responses to formal complaints under 18 CFR 385.206.

Document-less Intervention

The new release provides an optional document-less method for filing Motions to Intervene, including out-of-time motions. The document-less alternative should only be used to intervene. Comments, protests, and other motions should be filed separately. The traditional file attachment method is also available.

All contacts to be added to a service list must have validated eRegistration accounts, regardless of the method used to intervene. Instead of uploading a file, the document-less alternative prompts the submitter to key or copy/pastes the basis for intervening (18 CFR 385.214(b)) in a text box.⁵ The system creates a placeholder document from the information submitted for the record in eLibrary. Attachment B contains the instructions for submitting a document-less Motion to Intervene and displays a sample FERC Generated placeholder document in eLibrary.

⁵ Persons intervening “out-of-time” will also have to show good cause why the time limitation should be waived.

Quick-Comment

The Commission does not accept comments for the record via e-mail. A number of users have complained that the existing efiling system is too complicated for individuals to submit comments, particularly if they are first-time filers. Version 7.0 adds a Quick Comment process that addresses these concerns. It provides a simpler alternative to the traditional electronic filing system for submitting comments to the Commission in certain proceedings.

Quick Comment does not require an FERC eRegistration account. It is primarily intended for landowners and other stakeholders impacted by a single Hydropower Licensing or Natural Gas Pipeline Project. Its use is limited to the following docket/project designations: P (Hydro), PF (Natural Gas Pre-Filing), and CP (Natural Gas Pipeline Certificate Applications). Quick Comment relies on an e-mail-like process that both validates the e-mail address of the commenter and prevents spam attacks.

Quick Comment has a limit of 6,000 characters. Persons submitting more extensive comments, non-text or file attachments, or any material that is Non-Public must use the efiling system.

The system creates a placeholder document from the information entered during the Quick Comment process and adds that document to the applicable Public record(s) in eLibrary. Attachment C contains the instructions for submitting a Quick Comment and displays a sample FERC Generated placeholder document in eLibrary.

Kimberly D. Bose,
Secretary.

Attachment A.—Acceptable File Formats
Description | Suffix
Adobe Portable Document Format (Acrobat 4.x or higher) | .PDF
Advantica SynerGEE compatible Microsoft Access application MDB file ¹ | .MDB
Advantica SynerGEE input data set for pipe flow program ¹ | .PD
Advantica SynerGEE xy coordinate text file ¹ | .XY
ASCII Comma Separated Value | .CSV
ASCII Text Format | .TXT
AutoCAD Drawing database ¹ | .DWG
Corel WordPerfect | .WPD
ESRI Shape Format (vector format created by the Environmental System Research Institute) main file ¹ | .SHP
ESRI Shape Format (vector format created by the Environmental System Research Institute) index file ¹ | .SHX
ESRI Shape Format (vector format created by the Environmental System Research Institute) dBase table ¹ | .DBF
ESRI Shape Format (vector format created by the Environmental System Research Institute) projection file ¹ | .PRJ
ESRI ArcGIS auxiliary file ¹ | .AUX
ESRI ArcGIS external pyramid layer file used for rapid display of raster files ¹ | .RRD
ESRI ArcMap project file ¹ | .MXD
ESRI ArcIMS Project file (ArcXML) ¹ | .AXL
ESRI ArcView spatial bin file for shapefiles ¹ | .SBN
ESRI ArcView spatial bin index file for shapefiles ¹ | .SBX
ESRI TIFF world files ³ | .TFW
ESRI ArcGIS MrSid (LizardTech) image raster file ¹ | .SID
ESRI ArcGIS MrSid georeferencing information (world) file ¹ | .SDW
Extensible Markup Language | .XML
Graphic Image Format | .GIF
Gregg Engineering WinFlow library file ¹ | .LIB
Gregg Engineering WinFlow output file ¹ | .LOG
Gregg Engineering WinFlow output file ¹ | .NTP
Gregg Engineering WinFlow output file ¹ | .OVR
Gregg Engineering WinFlow input file ¹ | .WFP
Gregg Engineering WinTran time-varying schedule file ¹ | .SCH
Gregg Engineering WinTran output file ¹ | .WTO
Gregg Engineering WinTran output file ¹ | .WTS
Joint Photographic Experts Group | .JPG
Keyhole Markup Language (xml-based structure for geographic data in an Earth browser such as Google Earth) ¹ | .KML
Keyhole Markup Language compressed file ¹ | .KMZ
Lotus | .WK1, .WK3, .WK4
Microsoft Excel ³ | .XLS
Microsoft Media Player ² | .WMV, .WMA
Microsoft Power Point | .PPT, .PPS
Microsoft Word ³ | .DOC
Motion Picture Experts Group ² | .MPG
MP3 audio file (mp3) ² | .MP3
Managing and Utilizing System Transmission (MUST) Software ¹ | .CON, .MON, .SUB, .TRA
RAW Image File (RGB 24-bit Graphics) | .RAW
Rich Text Format | .RTF
Tagged Image File Format | .TIF
Waveform sound (Microsoft Windows) ² | .WAV
Web page file containing Hypertext Markup Language (HTML) markup | .HTM
Windows bitmap | .BMP
Zip file compressed archive (must not be self-extracting) | .ZIP
¹ A detailed description of the content of the file and instructions for the public on how to obtain resources to view it must be included with the submission in light of National Archives and Records Administration regulations. This file type must only be submitted with Advantica SynerGEE, AutoCAD, ESRI, WinFlow, or WinTran files.
² A written transcript and a detailed description of the content of the file must be included with the submission in light of the Americans with Disabilities Act.
³ FERC is not able at this time to accept the following file types used by Microsoft Office 2007: .docx, .docm, .xlsb, .xlsm, .xltx, .xltm, .xlam. We will update these guidelines when we can accept these file types.

Attachment B: Document-less Intervention (with Sample FERC Generated PDF document in eLibrary)

Document-less intervention is an optional method for parties to intervene in a proceeding. It is for intervention only. Substantive comments on the merits of the proceeding, protests, or other motions should be filed separately using the efiling system.

Motions to Intervene are timely or out-of-time, depending on whether they are submitted before or after 5 p.m. Eastern Time on the deadline for filing specified in the Commission's Notice of Filing. The filed date and time is normally determined at the time of file upload. Since there is no file upload step for a document-less intervention, all information should be submitted prior to 5 p.m. in order to receive the same day's filing date.

Filing Type Selection: On the Filing Type Screen

(1) Select “General” in Column 1

(2) Select “Intervention” in Column 2

(3) In Column 3, select either

a. “(doc-less)” Motion to Intervene, or

b. “(doc-less)” Out-of-Time Motion to Intervene

Select Docket: Query and select the applicable Docket or Project Number(s). We currently maintain all service lists only at the -000 sub-docket level.

Text Box Information: After you query and select the applicable Docket (or Project) Number, you should key or copy/paste the basis for intervening in the text box. This is the information in 18 CFR 385.214(b). For “Out-of-time” Motions to Intervene the submitter must also show good cause why the time limitation should be waived.

Filing Party(ies): On the Filing Party screen, query and select the party or parties that should appear on the service list. In a joint or several motion, select each party individually. Do not add the law firm filing on behalf of a client company.

Specify the Person(s) to Whom Communication Should Be Addressed: There is now just one screen for entering all contacts. The filing party or parties you selected on the previous screen appear at the top of the Communications screen with a radio button adjacent to each party. Select a party, enter the e-mail address for a contact, and add the contact as either a signer/representative or other contact. You can associate the same contact with multiple parties simply by selecting a different radio button and adding the contact to the list. Repeat the process for each additional contact.

Each party must have at least one signer/representative on the service list. This is the signer or other legal representative for the party. In most cases it's the attorney at the company appearing on the service list or at the law firm representing that company. You can enter more than one signer/representative for a party.

An Other Contact (optional) is normally a person affiliated with the party on the service list that should be served. They are involved in the proceeding but not necessarily as the legal representative of the party. All entries will be added to the service list regardless of how you designate them.

After you have added all contact information, follow the remaining screens. You must click on “Submit” on the last screen to confirm that you want to make the filing.

Format of “FERC Generated PDF” in eLibrary for Document-Less Intervention (system-generated from the information entered online)

20080227-5041 FERC PDF (Unofficial) 2/27/2008 2:09:29 PM

Submission Description: Motion to Intervene (document-less) of ABC Pipeline Company, et. al. under CP05-1-000.

Submission Date: 2/27/2008. 2:09:29 PM

Filed Date: 2/27/2008. 2:11:24 PM

Dockets

CP05-1-000 Construct/Operate w/$; new supply attachment; proposes to construct a new measurement and regulating station; requests authorization in order to operate by 12/15/04.

Filing Party/Contacts
Filing party | Signer (Representative) | Other contact (Principal)
ABC Pipeline Company | brooks.carter@ferc.gov | melissa.ferebee@ferc.gov.
XYZ Pipeline Company | brooks.carter@ferc.gov | Adam.Ulsh@ferc.gov.

Basis for Intervening [this is a system-generated label]:

[Information inserted online in the text box begins here] This is the information keyed or copy/pasted in the text box to comply with 18 CFR 385.214(b). There is a limit of 6,000 characters for the text box. Substantive comments on the merits, protests, and other motions should be filed separately using the file attachment process and appropriate filing type.

Attachment C: Quick Comment in P, PF, and CP Dockets (With Sample FERC Generated PDF Document in eLibrary)

FERC's Quick Comment Option is an easy way for individuals and other interested persons to submit text comments in the following proceedings:

• Hydroelectric License/Relicense Proceedings (P—Project Number),

• Pre-Filing Activity for Planned Natural Gas Projects (PF Docket), and

• Applications for Authorization to Construct a Natural Gas Pipeline, Liquefied Natural Gas (LNG) or Other Facility (CP Dockets).

The Quick Comment system does not require an FERC eRegistration account. There is a limit of 6,000 characters and all information must be Public. The system is for text comments only and may not be used to intervene or submit other information to the Commission.

Persons filing more extensive comments (more than 6,000 characters), non-text material, other attachments, or filing Privileged or Critical Energy Infrastructure Information (CEII) must use the Commission's eFiling system instead of Quick Comments. The eFiling system requires that you have an unrestricted eRegistration account (unrestricted in this case means an account that is not limited to eSubscription only).

It makes no difference which system—Quick Comments or eFiling—you use to submit comments. All comments submitted under either option are placed in the Record for the specified docket or project number(s).

To Use Quick Comment:

1. From the FERC Online Home page, click on the “Quick Comment” link.

2. The system returns an “Authorize Quick Comment:” screen. Key in your Name, e-mail address, and Phone Number (optional) in the labeled fields.

3. Key in the characters in the picture in the field below the picture. If you have difficulty reading the characters, click on the speaker icon next to the picture to hear the code (be sure the volume on your PC is high enough). After keying in the characters, click on Submit.

4. You will see the message: “Thank you for your interest in submitting Quick Comments to FERC. You will receive an e-mail with detailed instructions on how you can submit your Quick Comment.” The e-mail is sent to the e-mail address you entered on the first screen.

5. Check your e-mail account for a “Confirmation of Quick Comment” e-mail. Click on the link in the e-mail to display the “Submit Quick Comment” screen.

6. You can query and select the docket or project number(s) applicable to your comment (click on Search) or you can use the Quick Entry method. For Quick Entry, key in the docket or project number in the box for the docket number. Use the Search option if you are unsure about the format. You may add additional docket or project numbers provided your comments pertain to them.

7. Key or Copy/Paste your text comments in the large text box. There is a counter below the box to tell you how much space you have left for comments. If you entered a name at the beginning of the process for an association or organization, you must include the name of an individual responsible for the filing and contact information in the text box.

8. Click on Submit Comment.

9. You will receive a Confirmation of Receipt e-mail. Your comments will be added to the record in eLibrary in the docket or project number(s) you selected at the beginning of the process.

Format of “FERC Generated PDF” in eLibrary for a Quick Comment (System-Generated From the Information Entered Online)

20080227-5043 FERC PDF (Unofficial) 2/27/2008 3:07:27 PM

Comment of Brooks Carter in Docket(s)/Project(s) CP05-1-000

Submission Date: 2/27/2008

[Information keyed or copy/pasted in the text box begins here] These are my comments on the ____ Project in CP05-1.* * * There is a limit of 6,000 characters and all comments will be placed in the Public record for the proceeding.

Name and Address [appears only if you added this information in the text box after your comments]

[FR Doc. E8-4218 Filed 3-4-08; 8:45 am]

BILLING CODE 6717-01-P